FEDERAL COMMUNICATIONS COMMISSION

47 CFR Part 73

[DA 02-1622; MM Docket No. 01-221; RM-10171]

Radio Broadcasting Services; Buffalo Gap, TX

AGENCY: Federal Communications Commission.

ACTION: Final rule.

SUMMARY: This document allots Channel 227A to Buffalo Gap, Texas, in response to a petition filed by Katherine Pyeatt. See 66 FR 47432, September 12, 2001. The coordinates for Channel 227A at Buffalo Gap are 32-16-55 and 99-53-54. There is a site restriction 6.5 kilometers (4.0 miles) west of the community. With this action, this proceeding is terminated. A filing window for Channel 227A at Buffalo Gap will not be opened at this time. Instead, the issue of opening this allotment for auction will be addressed by the Commission in a subsequent order.

DATES: Effective September 3, 2002.

FOR FURTHER INFORMATION CONTACT: Kathleen Scheuerle, Media Bureau, (202) 418-2180.

SUPPLEMENTARY INFORMATION: This is a summary of the Commission's Report and Order, MM Docket No. 01-221, adopted July 3, 2002, and released July 19, 2002. The full text of this Commission decision is available for inspection and copying during regular business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

List of Subjects in 47 CFR Part 73

Radio, Radio broadcasting.

Accordingly, Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Buffalo Gap, Channel 227A.

Federal Communications Commission.
John A. Karousos,
Assistant Chief, Audio Division, Media Bureau.

[FR Doc. 02-19743 Filed 8-5-02; 8:45 am]

BILLING CODE 6712-01-P